DEPARTMENT OF THE INTERIOR

National Park Service

Notice of Intent to Repatriate Cultural Items from Adams County, IL, in the Possession of the Peabody Museum of Archaeology and Ethnology, Harvard University, Cambridge, MA

AGENCY: National Park Service, Interior.

ACTION: Notice.

Notice is hereby given in accordance with provisions of the Native American Graves Protection and Repatriation Act, 43 CFR 10.10 (a) (3), of the intent to repatriate cultural items in the possession of the Peabody Museum of Archaeology and Ethnology, Harvard University, Cambridge, MA, that meet the definition of “unassociated funerary objects” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 24 cultural items include fragments of an animal skull, sandstone abraders, wood, iron fragments, and a copper or brass tinkling cone. These items were removed by Stephen D. Peet from the Ursa Mound Group (Larry Lewis Site, 11-A-24), Adams County, IL, in 1889. They were donated by Reverend Peet to the Peabody Museum of Archaeology and Ethnology in 1889.

Excavation records indicate that these items were found with a historic burial that intruded into a prehistoric mound. Museum documentation suggests that the human remains from this burial were sent to the museum, but cannot presently be isolated from human remains from other sites from Adams County, IL.

The cultural items from this burial, especially the sandstone abraders, iron fragments, and copper/brass tinkling cone, indicate that the burial dates to the late 17th to mid-18th centuries. The age and style of the cultural items, combined with historic records and oral tradition, suggest that the burial dates to a time when the Iliniwek (Peoria) and Ioway tribes occupied villages in the immediate vicinity of the site. The Iliniwek are represented by the Peoria Indian Tribe of Oklahoma. The Ioway are represented by the Iowa Tribe of Kansas and Nebraska and the Iowa Tribe of Oklahoma.

Based on the above-mentioned information, officials of the Peabody Museum of Archaeology and Ethnology have determined that, pursuant to 43 CFR 10.2 (d) (2), the 24 cultural items listed above are reasonably believed to have been placed with or near individual human remains at the time of death or later as part of the death rite of ceremony and are believed, by a preponderance of evidence, to have been removed from a specific burial site of a Native American individual. Officials of the Peabody Museum of Archaeology and Ethnology also have determined that, pursuant to 43 CFR 10.2 (e), there is a relationship of shared group identity that can be reasonably traced between these items and the Iowa Tribe of Kansas and Nebraska, Iowa Tribe of Oklahoma, and Peoria Indian Tribe of Oklahoma.

This notice has been sent to officials of the Citizen Potawatomi Nation, Oklahoma; Forest County Potawatomi Community of Wisconsin Potawatomi Indians, Wisconsin; Hannahville Indian Community, Michigan; Ho-Chunk Nation of Wisconsin; Huron Potawatomi, Inc., Michigan; Iowa Tribe of Kansas and Nebraska; Iowa Tribe of Oklahoma; Kickapoo Traditional Tribe of Texas; Kickapoo Tribe of Indians of the Kickapoo Reservation in Kansas; Kickapoo Tribe of Oklahoma; Match-e-be-nash-she-wish Band of Pottawatomi Indians of Michigan; Miami Tribe of Oklahoma; Peoria Tribe of Indians of Oklahoma; Pokagon Band of Potawatomi Indians of Michigan, Prairie Band of Potawatomi Indians, Kansas; Sac & Fox Nation of Missouri in Kansas and Nebraska; Sac & Fox Nation, Oklahoma; Sac and Fox Tribe of the Mississippi in Iowa; and Winnebago Tribe of Nebraska. Representatives of any other Indian tribe that believes itself to be culturally affiliated with these objects should contact Barbara Isaac, Repatriation Coordinator, Peabody Museum of Archaeology and Ethnology, 11 Divinity Avenue, Cambridge, MA 02138, telephone (617) 495-2254, before July 5, 2001. Repatriation of these cultural items to the Iowa Tribe of Kansas and Nebraska, Iowa Tribe of Oklahoma, and Peoria Indian Tribe of Oklahoma may begin after that date if no additional claimants come forward.

Dated: May 14, 2001.
John Robbins,
Assistant Director, Cultural Resources Stewardship and Partnerships.

[FR Doc. 01-14073 Filed 6-4-01; 8:45 am]

BILLING CODE 4310-70-F